DEPARTMENT OF HEALTH AND HUMAN SERVICES

Centers for Disease Control and Prevention

Disease, Disability, and Injury Prevention and Control Special Interest Projects (SIPs): Outcomes of Screening American Indian/Alaska Native Women of Reproductive Age for Chronic Conditions in Reproductive Health Clinics & Technical Support for Health Systems Evaluations Within Africa and Asia under the President's Emergency Plan for AIDS Relief (PEPFAR) SIP 10-034 and SIP 10-038, Initial Review

In accordance with Section 10(a)(2) of the Federal Advisory Committee Act (Pub. L. 92- 463), the Centers for Disease Control and Prevention (CDC) announces the aforementioned meeting:

Time and Date: 1 p.m.-4 p.m., June 25, 2010 (Closed)

Place: Teleconference.

Status: The meeting will be closed to the public in accordance with provisions set forth in Section 552b(c) (4) and (6), Title 5 U.S.C., and the Determination of the Director, Management Analysis and Services Office, CDC, pursuant to Public Law 92-463.

Matters to be Discussed: The meeting will include the initial review, discussion, and evaluation of applications received in response to “Outcomes of Screening American Indian/Alaska Native Women of Reproductive Age for Chronic Conditions in Reproductive Health Clinics & Technical Support for Health Systems Evaluations within Africa and Asia under PEPFAR, SIP 10-034 and SIP 10-038.”

Contact Person for More Information: Michelle Mathieson, Public Health Analyst, National Center for Chronic Disease and Health Promotion, Office of the Director, Extramural Research Program Office, 4770 Buford Highway, NE., Mailstop K-92, Atlanta, GA 30341, Telephone: (770) 488-3068, E-mail: mth8@cdc.gov.

The Director, Management Analysis and Services Office, has been delegated the authority to sign Federal Register notices pertaining to announcements of meetings and other committee management activities, for both CDC and the Agency for Toxic Substances and Disease Registry.

Dated: May 21, 2010.
Elaine L. Baker,
Director, Management Analysis and Services Office, Centers for Disease Control and Prevention.

[FR Doc. 2010-13104 Filed 5-28-10; 8:45 am]

BILLING CODE 4163-18-P